DEPARTMENT OF ENERGY

Federal Energy Regulatory Commission

Combined Notice of Filings #1

Take notice that the Commission received the following exempt wholesale generator filings:

Docket Numbers: EG18-109-000.

Applicants: Blue Summit Interconnection, LLC.

Description: Notice of Self-Certification of Exempt Wholesale Generator Status of Blue Summit Interconnection, LLC.

Filed Date: 7/20/18.

Accession Number: 20180720-5188.

Comments Due: 5 p.m. ET 8/10/18.

Take notice that the Commission received the following electric rate filings:

Docket Numbers: ER18-2043-000.

Applicants: Alabama Power Company.

Description: § 205(d) Rate Filing: Cooperative Energy NITSA Amendment (adding new Article 7) to be effective 8/3/2018.

Filed Date: 7/20/18.

Accession Number: 20180720-5071.

Comments Due: 5 p.m. ET 8/10/18.

Docket Numbers: ER18-2044-000.

Applicants: Alabama Power Company.

Description: § 205(d) Rate Filing: Cooperative Energy Interconnection Agreement Amendment (adding Jasper East IP) to be effective 8/3/2018.

Filed Date: 7/20/18.

Accession Number: 20180720-5072.

Comments Due: 5 p.m. ET 8/10/18.

Docket Numbers: ER18-2045-000.

Applicants: NorthWestern Corporation.

Description: Tariff Cancellation: Notice of Cancellation: SA 827 Agreement for Remediation with GFDA Agritech Park to be effective 7/23/2018.

Filed Date: 7/20/18.

Accession Number: 20180720-5092.

Comments Due: 5 p.m. ET 8/10/18.

Docket Numbers: ER18-2046-000.

Applicants: American Transmission Systems, Incorporated, PJM Interconnection, L.L.C.

Description: § 205(d) Rate Filing: ATSI submits ECSAs, Service Agreement Nos. 4893, 4894, 4895, 4931, 4932 to be effective 9/20/2018.

Filed Date: 7/20/18.

Accession Number: 20180720-5118.

Comments Due: 5 p.m. ET 8/10/18.

Docket Numbers: ER18-2047-000.

Applicants: ISO New England Inc.

Description: Filing of Permanent De-List Bids and Retirement De-List Bids for 2022-23 Forward Capacity Auction (FCA 13) of ISO New England, Inc.

Filed Date: 7/20/18.

Accession Number: 20180720-5121.

Comments Due: 5 p.m. ET 8/10/18.

Docket Numbers: ER18-2048-000.

Applicants: New York Independent System Operator, Inc.

Description: § 205(d) Rate Filing: Revisions to implement historic fixed price TCC extensions to be effective 9/19/2018.

Filed Date: 7/20/18.

Accession Number: 20180720-5132.

Comments Due: 5 p.m. ET 8/10/18.

Docket Numbers: ER18-2049-000.

Applicants: Midcontinent Independent System Operator, Inc.

Description: § 205(d) Rate Filing: 2018-07-20_Attachment X Revisions to Expedite Phase I of the DPP to be effective 9/19/2018.

Filed Date: 7/20/18.

Accession Number: 20180720-5192.

Comments Due: 5 p.m. ET 8/10/18.

Docket Numbers: ER18-2050-000.

Applicants: San Diego Gas & Electric Company, Sempra Gas & Power Marketing, LLC.

Description: Joint Application for Approval of Affiliate Transaction Pursuant to Section 205 of the Federal Power Act of San Diego Gas & Electric Company, et al.

Filed Date: 7/20/18.

Accession Number: 20180720-5195.

Comments Due: 5 p.m. ET 8/10/18.

Docket Numbers: ER18-2051-000.

Applicants: Southwest Power Pool, Inc.

Description: § 205(d) Rate Filing: 3283 NextEra Energy & Sunflower Meter Agent Agr Cancellation to be effective 7/31/2018.

Filed Date: 7/23/18.

Accession Number: 20180723-5050.

Comments Due: 5 p.m. ET 8/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2018.
Nathaniel J. Davis, Sr.,
Deputy Secretary.

[FR Doc. 2018-16088 Filed 7-26-18; 8:45 am]

BILLING CODE 6717-01-P